DEPARTMENT OF ENERGY

Federal Energy Regulatory Commission

Combined Notice of Filings

Take notice that the Commission has received the following Natural Gas Pipeline Rate and Refund Report filings:

Filings Instituting Proceedings

Docket Numbers: CP26-39-000.

Applicants: Rockies Express Pipeline LLC.

Description: Rockies Express Pipeline LLC submits abbreviated Application for Abandonment of a lease of capacity from near the Opal Hub, in Lincoln County, Wyoming to the Wamsutter Hub in Sweetwater County, Wyoming.

Filed Date: 12/10/25.

Accession Number: 20251210-5292.

Comment Date: 5 p.m. ET 1/7/26.

Docket Numbers: CP26-40-000.

Applicants: MountainWest Overthrust Pipeline, LLC.

Description: MountainWest Overthrust Pipeline, LLC submits Application for a Certificate of Public Convenience and Necessity to reacquire capacity leased to Rockies Express Pipeline LLC.

Filed Date: 12/10/25.

Accession Number: 20251210-5293.

Comment Date: 5 p.m. ET 1/7/260.

Docket Numbers: RP26-303-000.

Applicants: NGO Transmission, Inc.

Description: 4(d) Rate Filing: Negotiated Rate Filing to be effective 1/1/2026.

Filed Date: 12/17/25.

Accession Number: 20251217-5045.

Comment Date: 5 p.m. ET 12/29/25.

Docket Numbers: RP26-304-000.

Applicants: Bear Creek Storage Company, L.L.C.

Description: Compliance filing: Annual Fuel Summary 2025 to be effective N/A.

Filed Date: 12/17/25.

Accession Number: 20251217-5098.

Comment Date: 5 p.m. ET 12/29/25.

Docket Numbers: RP26-305-000.

Applicants: Transcontinental Gas Pipe Line Company, LLC.

Description: 4(d) Rate Filing: DPEs—Alabama Georgia Connector to be effective 1/17/2026.

Filed Date: 12/17/25.

Accession Number: 20251217-5136.

Comment Date: 5 p.m. ET 12/29/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 17, 2025.
Carlos D. Clay,
Deputy Secretary.

[FR Doc. 2025-23559 Filed 12-19-25; 8:45 am]

BILLING CODE 6717-01-P